DEPARTMENT OF STATE

[Delegation of Authority No. 238]

Delegation of Responsibility Under Section 108(c) of the Admiral James W. Nance and Meg Donovan Foreign Relations Authorization Act, Fiscal Years 2000 and 2001, (The “Act”), (As Contained in the Consolidated Appropriations Act, FY 2000, P.L. 106-113)

By virtue of the authority vested in me as Secretary of State, including the authority of section 1 of the State Department Basic Authorities Act of 1956, I hereby delegate to the Assistant Secretary for International Organization Affairs the functions of section 108(c) of the Admiral James W. Nance and Meg Donovan Foreign Relations Authorization Act, Fiscal Years 2000 and 2001, (the “Act”) regarding certification that the United Nations Development Program in Burma meets certain specified criteria. (The Act is contained in the Consolidated Appropriations Act, FY 2000, P.L. 106-113.)

This delegation of authority shall apply to any certification of similar requirement under any hereafter-enacted provision of law that is the same or substantially the same as section 108(c) of the Act.

Notwithstanding this Delegation of Authority, the Secretary of State or the Deputy Secretary may at any time exercise any function delegated by this Delegation.

This Delegation of Authority shall be published in the Federal Register.

Dated: February 9, 2000.
Madeleine K. Albright,
Secretary of State.

[FR Doc. 00-3682 Filed 2-15-00; 8:45 am]

BILLING CODE 4710-10-U